DEPARTMENT OF THE TREASURY

Internal Revenue Service

Discontinuance of Magnetic Tape Processing for Form 940, Employer's Annual Federal Unemployment (FUTA) Tax Return and Form 941, Employer's Quarterly Federal Tax Return (FICA) for All Users

AGENCY: Internal Revenue Service (IRS), Treasury.

ACTION: Notice.

SUMMARY: This announcement serves as notice that the Internal Revenue Service plans to discontinue processing of Magnetic Tape for Form 940/941 at all sites for the 2004 filing season, with a final date of February 2004. This announcement is in line with our agreement to keep businesses informed as we continue to move toward modernized technology.

ADDRESSES: Questions or concerns should be directed to Lillie H. Price, Senior Program Analyst, IRS, Small Business/Self-Employed Division, SE:CAS:S:SP:PBR, 5000 Ellin Road, Room C-4 258, Lanham, MD 20706.

FOR FURTHER INFORMATION CONTACT: Questions or concerns will also be taken over the telephone. Call Lillie Price-202-283-0563 (not a toll-free number). You may e-mail responses entitled 940/941 Discontinuance Of Magnetic Tape Processing to Lillie.H.Price@irs.gov.

SUPPLEMENTARY INFORMATION: This information pertains to current magnetic tape filers, who are transmitting business returns to the Andover and Fresno Submission Processing Centers.

Dated: July 23, 2003.
Peter J. Stipek,
Deputy Director Submission Processing, Customer Account Services, Small Business/Self-Employed.

[FR Doc. 03-19643 Filed 7-31-03; 8:45 am]

BILLING CODE 4830-01-P